ELECTION ASSISTANCE COMMISSION

Voluntary Voting System Guidelines; Request for Comments

AGENCY: United States Election Assistance Commission.

ACTION: Notice; request for public comment.

SUMMARY: The U.S. Election Assistance Commission (EAC) is seeking public comments as a key component of its annual review of the Voluntary Voting System Guidelines (VVSG). The public comment period will last for 90 days. This will allow all stakeholders to provide comments concerning the current iteration of the VVSG, presently version 2.0, to the EAC. These public comments will be posted on the EAC website. Substantive comments will be reviewed and considered for inclusion in an annual report detailing proposed changes to the VVSG 2.0. This process is defined in detail in the EAC's VVSG Lifecycle policy: https://www.eac.gov/sites/default/files/TestingCertification/VVSG_Lifecycle_Policy_9_22.pdf.

DATES: Comments must be received on or before 5 p.m. EST on June 7, 2023.

ADDRESSES:

Submission of Comments: Comments on updates to VVSG 2.0 should be submitted electronically via https://www.regulations.gov (docket ID: EAC-2023-0001). Written comments on the proposed information collection can also be sent to the U.S. Election Assistance Commission, 633 3rd Street NW, Suite 200, Washington, DC 20001, Attn: Testing & Certification.

Obtaining a copy of VVSG 2.0: To obtain a copy of the VVSG 2.0 Requirements (1) Download a copy at https://www.eac.gov/sites/default/files/TestingCertification/Voluntary_Voting_System_Guidelines_Version_2_0.pdf; or (2) write to the EAC (including your address and phone number) at U.S. Election Assistance Commission, 633 3rd Street NW, Suite 200, Washington, DC 20001, Attn: Testing & Certification.

FOR FURTHER INFORMATION CONTACT: Paul Aumayr, phone (301) 960-1216, email: paumayr@eac.gov; U.S. Election Assistance Commission, 633 3rd Street NW, Suite 200, Washington, DC 20001.

SUPPLEMENTARY INFORMATION: OMB Number pending.

On April 5th, 2022, the EAC Commissioners unanimously voted to adopt the VVSG Lifecycle Policy. The policy creates a transparent and predictable path for future updates to the VVSG. This was a significant step in the development of future versions of VVSG and will let the standards evolve with the needs of election officials and evolving voting system technology. The VVSG Lifecycle Policy outlines the process for an annual review of the VVSG standards. The annual reviews will provide the basis for changes to the requirements as well as when it is necessary to draft a new VVSG.

The EAC Testing and Certification Program Director will provide an annual report to the Executive Director at the end of the fiscal year detailing proposed changes to the VVSG that have been collected over the prior fiscal year from various stakeholders and via public comment. This report will be shared with the EAC Technical Guidelines Development Committee, the EAC Standards Board, and the EAC Board of Advisors.

Camden Kelliher,
Associate Counsel, U.S. Election Assistance Commission.

[FR Doc. 2023-04783 Filed 3-8-23; 8:45 am]

BILLING CODE P